NUCLEAR REGULATORY COMMISSION

[Docket No. 50-331; NRC-2020-0148]

NextEra Energy Duane Arnold, LLC; Duane Arnold Energy Center; Post-Shutdown Decommissioning Activities Report

AGENCY: Nuclear Regulatory Commission.

ACTION: Notice of receipt; availability; public meeting and request for comment.

SUMMARY: On April 2, 2020, the U.S. Nuclear Regulatory Commission (NRC) received the post-shutdown decommissioning activities report (PSDAR) for the Duane Arnold Energy Center (DAEC). The PSDAR, which includes the site-specific decommissioning cost estimate (DCE), provides an overview of NextEra Energy Duane Arnold, LLC's (NEDA or the licensee) planned decommissioning activities, schedule, projected costs, and environmental impacts for DAEC. The NRC will hold a public meeting to discuss the PSDAR's content and receive comments.

DATES: Submit comments by October 19, 2020. Comments received after this date will be considered if it is practical to do so, but the NRC is able to ensure consideration only for comments received on or before this date.

ADDRESSES: You may submit comments by any of the following methods:

• Federal Rulemaking Website: Go to https://www.regulations.gov and search for Docket ID NRC-2020-0148. Address questions about NRC docket IDs to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Scott P. Wall, Office of Nuclear Reactor Regulation, U.S. Nuclear Regulatory Commission, Washington DC 20555-0001, telephone: 301-415-2855; email: Scott.Wall@nrc.gov.

SUPPLEMENTARY INFORMATION:

I. Obtaining Information and Submitting Comments

A. Obtaining Information

Please refer to Docket ID NRC-2020-0148 when contacting the NRC about the availability of information for this action. You may obtain publicly-available information related to this action by any of the following methods:

• Federal Rulemaking Website: Go to https://www.regulations.gov and search for Docket ID NRC-2020-0148.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

B. Submitting Comments

Please include Docket ID NRC-2020-0148 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

NEDA is the holder of Renewed Facility Operating License No. DPR-49 for DAEC. The license provides, among other things, that the facility is subject to all rules, regulations, and orders of the NRC now or hereafter in effect. The facility consists of one boiling-water reactor located adjacent to the Cedar River approximately 2.5 miles northeast of the town of Palo in Linn County, Iowa. By letter dated January 18, 2019 (ADAMS Accession No. ML19023A196), the licensee submitted its notification of permanent cessation of power operations for DAEC. In this letter, NEDA notified the NRC of its intent to permanently cease power operations at DAEC in the fourth quarter of 2020. By letter dated March 2, 2020 (ADAMS Accession No. ML20062E489), the licensee submitted a revised notification of permanent cessation of power operations for DAEC. In this letter, NEDA notified the NRC of its intent to permanently cease power operations at DAEC on October 30, 2020.

On April 2, 2020, NEDA submitted the PSDAR, including the site-specific DCE for DAEC, in accordance with § 50.82(a)(4)(i) of title 10 of the Code of Federal Regulations (ADAMS Accession No. ML20094F603). The PSDAR includes a description of the planned decommissioning activities, a proposed schedule for their accomplishment, the site-specific DCE, and a discussion that provides the basis for the NRC to conclude that the environmental impacts associated with the site-specific decommissioning activities will be bounded by appropriate, previously issued generic and plant-specific environmental impact statements.

III. Request for Comment and Public Meeting

Due to the COVID-19 Public Health Emergency (PHE), the NRC has delayed holding a public meeting to obtain comments from the public on the DACE PSDAR, including the DCE. However, with recent announcements for relaxing PHE restrictions by Iowa Governor Reynolds, the NRC is tentatively planning to hold the PSDAR meeting and receive comments on Tuesday, July 28, 2020, from 6 p.m. until 9 p.m., at the Palo Community Center, 2800 Hollenbeck Rd, Palo, Iowa 52324. If PHE restrictions do not allow the meeting to be held on July 28, 2020, the NRC will notify the public by revising the date on the NRC Public Meeting Schedule on the NRC's public website at https://www.nrc.gov/pmns/mtg. The NRC requests that comments provided outside the July 28, 2020 meeting be submitted as noted in Section I, “Obtaining Information and Submitting Comments,” of this document in writing by October 19, 2020.

Dated: June 15, 2020.
For the Nuclear Regulatory Commission.
Nancy L. Salgado,
Chief, Plant Licensing Branch III, Division of Operating Reactor Licensing, Office of Nuclear Reactor Regulation.

[FR Doc. 2020-13215 Filed 6-18-20; 8:45 am]

BILLING CODE 7590-01-P